DEPARTMENT OF ENERGY

Federal Energy Regulatory Commission

[Project No. 12514-000—Indiana]

Northern Indiana Public Service Company; Norway-Oakdale Project; Notice of Proposed Restricted Service List for a Programmatic Agreement for Managing Properties Included in or Eligible for Inclusion in the National Register of Historic Places

October 12, 2006.

Rule 2010 of the Federal Energy Regulatory Commission's (hereinafter, Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Indiana State Historic Preservation Officer (hereinafter, SHPO) and the Advisory Council on Historic Preservation (hereinafter, Council) pursuant to the Council's regulations, 36 CFR part 800, implementing section 106 of the National Historic Preservation Act, as amended, (16 U.S.C. 470 f), to prepare and execute a programmatic agreement for managing properties included in, or eligible for inclusion in, the National Register of Historic Places at the Norway-Oakdale Project No. 12514-000 (SHPO Reference Number DNR #10475).

The programmatic agreement, when executed by the Commission and the SHPO would satisfy the Commission's section 106 responsibilities for all individual undertakings carried out in accordance with the license until the license expires or is terminated (36 CFR 800.13[e]). The Commission's responsibilities pursuant to section 106 for the Norway-Oakdale Project would be fulfilled through the programmatic agreement, which the Commission proposes to draft in consultation with certain parties listed below. The executed programmatic agreement would be incorporated into any Order issuing a license.

Northern Indiana Public Service Company, as licensee for Project No. 12514, the Pokagon Band of Potawatomi Indians of Indiana and Michigan, and the Miami Tribe of Oklahoma are invited to participate in consultations to develop the programmatic agreement.

For purposes of commenting on the programmatic agreement, we propose to restrict the service list for the aforementioned project as follows:

Don Klima or Representative, Advisory Council on Historic Preservation, The Old Post Office Building, Suite 803, 1100 Pennsylvania Avenue, NW., Washington, DC 20004.

Jerome B. Weeden, Vice President of Generation or Representative, Northern Indiana Public Service Company, 801 East 86th Avenue, Merrillville, IN 46410.

Karie A. Brudis or Representative, Indiana Department of Natural Resources, Division of Historic Preservation and Archaeology, 402 W. Washington Street, W274, Indianapolis, IN 46204-2739.

John Miller, Tribal Chairman or Representative, Pokagon Band of Potawatomi Indians of Indiana and Michigan, 58620 Sink Road, Dowagiac, MI 49047.

Floyd Leonard, Chief or Representative, Miami Nation of Oklahoma, 202 South Eight Tribes Trail, Miami, OK 74354.

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

An original and 8 copies of any such motion must be filed with Magalie Salas, the Secretary of the Commission (888 First Street, NE., Washington, DC 20426) and must be served on each person whose name appears on the official service list. Please put the project name “Norway-Oakdale Project” and number “P-12514-000” on the front cover of any motion. If no such motions are filed, the restricted service list will be effective at the end of the 15 day period. Otherwise, a further notice will be issued ruling on any motion or motions filed within the 15 day period.

Magalie Salas,
Secretary.

[FR Doc. E6-17462 Filed 10-18-06; 8:45 am]

BILLING CODE 6717-01-P